DEPARTMENT OF TRANSPORTATION

Federal Transit Administration

[FTA Docket No. 2014-0023]

Notice of Request for the Extension of a Currently Approved Information Collection

AGENCY: Federal Transit Administration, DOT.

ACTION: Notice of request for comments.

SUMMARY: In accordance with the Paperwork Reduction Act of 1995, this notice announces the intention of the Federal Transit Administration (FTA) to request the Office of Management and Budget (OMB) to renew the following information collection:

49 U.S.C. 5308 Clean Fuels Grant Program

The Clean Fuels Grant Program was developed to assist non-attainment and maintenance areas in achieving or maintaining the National Ambient Air Quality Standards for ozone and carbon monoxide (CO). The program also supported emerging clean fuel and advanced propulsion technologies for transit buses and markets for those technologies. The Clean Fuels Grant Program was repealed under the Moving Ahead for Progress in the 21st Century Act (MAP-21). However, funds previously authorized for programs repealed by MAP-21 remain available for their originally authorized purposes until the period of availability expires, the funds are fully expended, the funds are rescinded by Congress, or the funds are otherwise reallocated.

DATES: Comments must be submitted before January 5, 2015.

ADDRESSES: To ensure that your comments are not entered more than once into the docket, submit comments identified by the docket number by only one of the following methods:

1. Web site: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-493-2251.

3. Mail: U.S. Department of Transportation, 1200 New Jersey Avenue SE., Docket Operations, M-30, West Building, Ground Floor, Room W12-140, Washington, DC 20590-0001.

4. Hand Delivery: U.S. Department of Transportation, 1200 New Jersey Avenue SE., Docket Operations, M-30, West Building, Ground Floor, Room W12-140, Washington, DC 20590-0001 between 9:00 a.m. and 5:00 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to Internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE., Docket Operations, M-30, West Building, Ground Floor, Room W12-140, Washington, DC 20590-0001 between 9:00 a.m. and 5:00 p.m., Monday through Friday, except federal holidays.

FOR FURTHER INFORMATION CONTACT: 49 U.S.C. 5308 Clean Fuels Grant Program—Vanessa Williams, Office of Program Management (202) 366-4818 or email: vanessa.williams@dot.gov.

SUPPLEMENTARY INFORMATION:

Title: U.S.C. Clean Fuels Grant Program (OMB Number: 2132-0573)

The Section 5308 Clean Fuels Grant Program was originally initiated as a formula program under the Transportation Equity Act for the 21st Century (TEA-21) in June 1998. The program was reauthorized in August 2005 under the Safe, Accountable, Flexible, Efficient Transportation Equity Act: A Legacy for Users (SAFETEA-LU) as a discretionary grant program. However, the Clean Fuels Grant Program was repealed under MAP-21, and funds were no longer appropriated for the program. The program supported the development and deployment of clean fuel and advanced propulsion technologies for transit buses by providing funds for clean fuel vehicles and facilities. To meet program oversight responsibilities, FTA must continue to collect information until the period of availability expires, the funds are fully expended, the funds are rescinded by Congress, or the funds are otherwise reallocated.

Respondents: State and local government and public transportation authorities located in areas designated as non-attainment or maintenance for ozone or carbon monoxide.

Estimated Total Annual Burden on Respondents: 4 hours for each respondent.

Estimated Total Burden: 153 hours.

Frequency: Semi-Annual.

Susan Camarena,
Acting Deputy Associate Administrator for Administration.

[FR Doc. 2014-26155 Filed 11-3-14; 8:45 am]

BILLING CODE P